Title 3—

The President

Memorandum of January 8, 2025

Delegation of Certain Authorities Under Section 7271 of Title 10, United States Code

Memorandum for the Secretary of Defense [and] the Secretary of the Army

By the authority vested in me as President by the Constitution and the laws of the United States of America, including section 301 of title 3, United States Code, I hereby delegate to the Secretary of the Army the authority vested in the President by section 7271 of title 10, United States Code, to present certain previously awarded Medals of Honor. This delegated authority is limited to the Medals of Honor approved in 1906 for Private William Simon Harris, United States Army, and Private James W. McIntyre, United States Army, which shall be presented, as an administrative corrective action, to the eldest surviving grandchild of each awardee.

For each such case, the Secretary of the Army shall notify the President through the Secretary of Defense prior to making the presentation.

The Secretary of the Army is authorized and directed to publish this memorandum in the Federal Register.

THE WHITE HOUSE,

Washington, January 8, 2025

[FR Doc. 2025-00953

Filed 1-13-25; 11:15 am]

Billing code 3710-08-P